DEPARTMENT OF TRANSPORTATION

Federal Highway Administration

Environmental Impact Statement: Portage County, WI

AGENCY: Federal Highway Administration (FHWA), Department of Transportation (DOT).

ACTION: Notice of intent to prepare an environmental impact statement.

SUMMARY: The FHWA is issuing this notice to advise the public that an environmental impact statement (EIS) will be prepared for the proposed highway improvement of United States Highway (US) 10 from the vicinity of Trestik Road west of the Village of Junction City to Portage County Trunk Highway (CTH) K east of the City of Stevens Point in Portage County, Wisconsin.

FOR FURTHER INFORMATION CONTACT: Mr. Wesley Shemwell, Pavement Engineer, Federal Highway Administration, 567 D'Onofrio Drive, Madison, Wisconsin 53719-2814, telephone: (608) 829-7521. You may also contact Ms. Carol Cutshall, Director, Bureau of Environment, Wisconsin Department of Transportation, P.O. Box 7965, Madison, Wisconsin, 53707-7965; telephone: (608) 266-9626.

SUPPLEMENTARY INFORMATION:

Electronic Access

An electronic copy of this document may be downloaded by using a computer, modem and suitable communications software from the Government Printing Offices' Electronic Bulletin Board Service at (202) 512-1661. Internet users may reach the Office of Federal Register's home page at: http://www.nara.gov/fedreg and the Government Printing Offices' database at: http://www.access.gpo.gov/nara.

Background

The FHWA, in cooperation with the Wisconsin Department of Transportation, will prepare the second tier of a tiered environmental impact statement to improve US 10 as an ultimate four lane roadway from Trestik Road west of Junction City to CTH K east of Stevens Point, a distance of about 26 miles.

The overall second tiered EIS will have two distinct segments. The west segment extends from Trestik Road to I 39/US 51, while the east segment is from I 39/US 51 to CTH K. There will be two levels of analysis done. The western segment will be analyzed in detail, with the Final EIS completing the environmental documentation requirements for the improvements of US 10 along this segment.

For the eastern segment, conceptual highway corridors will be studied in broad, general corridors. This level of study will complete the first tier of an environmental evaluation for this section. To ensure the accuracy of the generalized impacts and compliance with current legislation, additional environmental documentation will be required for specific design projects along this eastern segment of US 10.

Improvements to the overall corridor are considered necessary to provide for the existing and projected traffic demand. US 10 in Portage County is classified as a principle arterial. Truck volume on the route is high. All the US 10 traffic passes through the communities of Junction City and Stevens Point, which contributes to congestion and traffic related impacts within those communities.

Planning, environmental, and engineering studies are underway to develop transportation alternatives. The EIS will assess the environmental impacts of alternatives including (1) no-build, (2) improvements along the existing rural corridor, with possible relocated alignments along portions of the route, (3) bypass corridors around Junction City and Stevens Point, and (4) improvement alternatives through Junction City and Stevens Point.

Information describing the proposed action and soliciting comments will be sent to appropriate Federal, State, and local agencies and to private organizations and citizens who have previously expressed, or are known to have interest in this proposal. A series of public meetings will be held in the project corridor throughout the data gathering and development of alternatives. In addition, a public hearing will be held. Public notice will be given of the time and place of the meetings and hearing. The Draft EIS will be available for public and agency review and comment prior to the hearing. As part of the scoping process, coordination activities have begun. Scoping meetings will be held on an individual or group meeting basis. Agency coordination will be accomplished during these meetings.

To ensure that the full range of issues related to this proposed action are addressed and all significant issues are identified, comments and suggestions are invited from all interested parties. Comments or questions concerning this proposed action and the EIS should be directed to FHWA or the Wisconsin Department of Transportation at the addresses provided in the caption FOR FURTHER INFORMATION CONTACT.

(Catalog of Federal Domestic Assistance Program Number 20.205, Highway Planning and Construction. The regulations implementing Executive Order 12372 regarding intergovernmental consultation on Federal programs and activities apply to this program.)

Authority: 23 U.S.C. 315; 49 CFR 1.48.

Issued on: August 28, 2001.
Wesley A. Shemwell,
Pavement Engineer, Federal Highway Administration, Madison, Wisconsin.

[FR Doc. 01-22532 Filed 9-6-01; 8:45 am]

BILLING CODE 4910-22-P